FEDERAL COMMUNICATIONS COMMISSION

47 CFR Part 27

[WT Docket No. 21-333; Report No. 3187; FR ID 89296]

Petition for Reconsideration of Action in Rulemaking Proceeding

AGENCY: Federal Communications Commission.

ACTION: Petition for Reconsideration.

SUMMARY: Petition for Reconsideration (Petition) has been filed in the Commission's proceeding by Michael P. Goggin, on behalf of AT&T Services, Inc.

DATES: Oppositions to the Petition must be filed on or before June 17, 2022. Replies to oppositions must be filed on or before June 27, 2022.

ADDRESS: Federal Communications Commission, 45 L Street NE, Washington, DC 20554.

FOR FURTHER INFORMATION CONTACT: Susan Mort, Associate Bureau Chief, Wireless Telecommunications Bureau, 202-418-2129 or via email at susan.mort@fcc.gov.

SUPPLEMENTARY INFORMATION: This is a summary of the Commission's document, Report No. 3187, released May 23, 2022. The full text of the Petition can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject:In the Matter of Wireless Telecommunications Bureau Announces Procedures for Appeals of Relocation Payment Clearinghouse Decisions, published at 87 FR 30836, May 20, 2022 in WT Docket No. 21-333. This document is being published pursuant to 47 CFR 1.429(e).

Number of Petitions Filed: 1.

Federal Communications Commission.
Marlene Dortch,
Secretary, Office of the Secretary.

[FR Doc. 2022-11840 Filed 6-1-22; 8:45 am]

BILLING CODE 6712-01-P